OFFICE OF MANAGEMENT AND BUDGET

FY 2008 Cost of Outpatient Medical, Dental, and Pharmacy Services Furnished by Department of Defense Medical Treatment Facilities; Certain Rates Regarding Recovery From Tortiously Liable Third Persons

AGENCY: Office of Management and Budget, Executive Office of the President.

ACTION: Notice.

SUMMARY: By virtue of the authority vested in the President by section 2(a) of Pub. L. 87-603 (76 Stat. 593; 42 U.S.C. 2652), and delegated to the Director of the Office of Management and Budget by the President through Executive Order No. 11541 of July 1, 1970, the rates referenced below are hereby established. These rates are for use in connection with the recovery from tortiously liable third persons for the cost of outpatient medical, dental and pharmacy services furnished by military treatment facilities through the Department of Defense (DoD). The rates have been established in accordance with the requirements of OMB Circular A-25, requiring reimbursement of the full cost of all services provided. The outpatient medical and dental rates referenced are effective upon publication of this notice in the Federal Register and will remain in effect until further notice. Pharmacy rates are updated periodically. The inpatient rates, published on December 9, 2002, remain in effect until further notice. A full analysis of the rates is posted at the DoD's Uniform Business Office Web Site: http://www.tricare.mil/ocfo/_docs/CY07%20Reimbursement%20Rates11.pdf. The rates can be found at: http://www.tricare.mil/ocfo/mcfs/ubo/mhs_rates.cfm.

Jim Nussle,
Director.

[FR Doc. E7-22701 Filed 11-20-07; 8:45 am]

BILLING CODE 3110-01-P